COMMODITY FUTURES TRADING COMMISSION

Sunshine Meeting Act

“Federal Register” Citation of Previous Announcement: 65 FR 65843.

Previously Announced Time and Date of Meeting: 1 p.m., Monday, October 30, 2000.

Changes in the Meeting: The open meeting previously scheduled for 1 p.m., Monday, October 30, 2000 has been postponed until 1 p.m., Wednesday, November 1, 2000.

Contact Person for More Information: Jean A. Webb, 418-5100.

Jean A. Webb,
Secretary of the Commission.

[FR Doc. 00-27965 Filed 10-26-00; 3:58 pm]

BILLING CODE 6351-01-M